FEDERAL ACCOUNTING STANDARDS ADVISORY BOARD

Notice of Public Hearing

Board Action: Pursuant to 31 U.S.C. 3511(d), the Federal Advisory Committee Act (Pub. L. 92-463), as amended, and the FASAB Rules Of Procedure, as amended in April, 2004, notice is hereby given that the Federal Accounting Standards Advisory Board (FASAB) will hold a public hearing in conjunction with its September 27, 2006 Board meeting. the public hearing will begin at 9 a.m. and will address the exposure draft (ED) entitled Definition and Recognition of Elements of Accrual-Basis Financial Statements. Those interested in testifying should contact Ms. Terri Pinkney, Administrative Assistant, no later than one week prior to the hearing. Ms. Pinkney can be reached at (202) 512-7350 or via e-mail at pinkneyt@fasab.gov. Also, they should at the same time provide a short biography and written copies of their testimony. The ED is available on the FASAB Web site http://www.fasab.gov under Exposure Drafts.

A more detailed agenda can be obtained from the FASAB Web site (http://www.fasab.gov) one week prior to each meeting.

Any interested person may attend the meetings as an observer. Board discussion and reviews are open to the public. GAO Building security requires advance notice of your attendance. Please notify FASAB of your planned attendance by calling (202) 512-7350 at least one day prior to the respective meeting.

FOR FURTHER INFORMATION CONTACT: Wendy M. Comes, Executive Director, 441 G St., NW., Mail Stop 6K17V, Washington, DC 20548, or call (202) 512-7350.

Authority: Federal Advisory Committee Act. Pub. L. No. 92-363.

Dated: August 14, 2006.
Charles Jackson,
Federal Register Liaison Officer.

[FR Doc. 06-6988 Filed 8-15-06; 8:45 am]

BILLING CODE 1610-01-M